DEPARTMENT OF VETERANS AFFAIRS

Veterans' Rural Health Advisory Committee; Notice of Meeting

The Department of Veterans Affairs (VA) gives notice under the Federal Advisory Committee Act, 5 U.S.C. App. 2, that the Veterans' Rural Health Advisory Committee will meet on November 17-18, 2015, at 333 John Carlyle Street, Room 2001, Alexandria, Virginia from 8:30 a.m. to 5 p.m. on both days. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

The agenda will include updates from the Committee Chair and the Director of the Veterans Health Administration (VHA) Office of Rural Health (ORH), as well as presentations on general health care access and quality topics.

Public comments will be received at 4:30 p.m. on November 18, 2015. Individuals may submit a 1-2 page summary of their comments for inclusion in the official meeting record. Interested parties should contact Mr. Elmer D. Clark, by mail at 810 Vermont Avenue, Mail Code 10P1R, Washington, DC 20420, or by email at VRHAC@va.gov, or by fax (202) 632-8609.

Dated: October 29, 2015.
Rebecca Schiller,
Advisory Committee Management Officer.

[FR Doc. 2015-27940 Filed 11-2-15; 8:45 am]

BILLING CODE 8320-01-P